ENVIRONMENTAL PROTECTION AGENCY

40 CFR Part 52

[EPA-R05-OAR-2009-0513; FRL-9103-1]

Approval and Promulgation of Air Quality Implementation Plans; Indiana; Volatile Organic Compound Automobile Refinishing Rules for Indiana

AGENCY: Environmental Protection Agency (EPA).

ACTION: Proposed rule.

SUMMARY: On June 5, 2009, the Indiana Department of Environmental Management (IDEM) submitted amendments to Indiana's automobile refinishing rule for approval into its State Implementation Plan (SIP). These rule revisions extend the applicability of Indiana's approved volatile organic compound (VOC) automobile refinishing rules to all persons in Indiana who sell or manufacture automobile refinishing coatings or who refinish motor vehicles. The rules are approvable because they are consistent with the Clean Air Act (Act) and EPA regulations, and should result in additional VOC emission reductions throughout Indiana.

DATES: Comments must be received on or before February 16, 2010.

ADDRESSES: Submit your comments, identified by Docket ID No. EPA-R05-OAR-2009-0513, by one of the following methods:

1. http://www.regulations.gov: Follow the online instructions for submitting comments.

2. E-mail: mooney.john@epa.gov.

3. Fax: (312) 692-2551.

4. Mail: John M. Mooney, Chief, Criteria Pollutant Section, Air Programs Branch (AR-18J), U.S. Environmental Protection Agency, 77 West Jackson Boulevard, Chicago, Illinois 60604.

5. Hand Delivery: John M. Mooney, Chief, Criteria Pollutant Section, Air Programs Branch (AR-18J), U.S. Environmental Protection Agency, 77 West Jackson Boulevard, Chicago, Illinois 60604. Such deliveries are only accepted during the regional office normal hours of operation, and special arrangements should be made for deliveries of boxed information. The regional office official hours of business are Monday through Friday, 8:30 a.m. to 4:30 p.m., excluding Federal holidays.

Instructions: Direct your comments to Docket ID No. EPA-R05-OAR-2009-0513. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters and any form of encryption, and be free of any defects or viruses. For additional instructions on submitting comments, go to Section I of the SUPPLEMENTARY INFORMATION section of this document.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Steven Rosenthal at (312) 886-6052 before visiting the Region 5 office.

FOR FURTHER INFORMATION CONTACT: Steven Rosenthal, Environmental Engineer, Criteria Pollutant Section, Air Programs Branch (AR-18J), Environmental Protection Agency, Region 5, 77 West Jackson Boulevard, Chicago, Illinois 60604, (312) 886-6052.

SUPPLEMENTARY INFORMATION: Throughout this document whenever “we,” “us,” or “our” is used, we mean EPA. This supplementary information section is arranged as follows:

I. What Should I Consider as I Prepare My Comments for EPA?

II. What Action Is EPA Taking Today and What Is the Purpose of This Action?

III. What Is EPA's Analysis of Indiana's Automobile Refinishing Rule?

IV. Statutory and Executive Order Reviews

I. What Should I Consider as I Prepare My Comments for EPA?

When submitting comments, remember to:

1. Identify the rulemaking by docket number and other identifying information (subject heading, Federal Register date and page number).

2. Follow directions—The EPA may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns, and suggest alternatives.

7. Explain your views as clearly as possible, avoiding the use of profanity or personal threats.

8. Make sure to submit your comments by the comment period deadline identified.

II. What Action Is EPA Taking Today and What Is the Purpose of This Action?

EPA is proposing to approve rule revisions that broaden the coverage of Indiana's VOC automobile refinishing SIP rules to include to all persons in Indiana who sell or manufacture automobile refinishing coatings or who refinish motor vehicles. Given the revised rule's focus on VOC coating limitations and work practice standards, Indiana has also deleted references to control technology requirements.

III. What Is EPA's Analysis of Indiana's Automobile Refinishing Rule?

Background of Rule and Its Revisions

EPA issued National VOC Emission Standards for Automobile Refinishing Coatings at 40 CFR part 59, subpart B, on September 11, 1998 (64 FR 48815, as amended at 69 FR 18803, April 9, 2004), promulgated under the Consumer and Commercial Products provisions of section 183(e) of the Act. The VOC emission limits in this rule apply nationwide to manufacturers and importers of automobile refinishing coatings or coating components that sell or distribute these coatings in the United States.

On December 20, 1999, EPA approved 326 IAC 8-10, in which Indiana adopted the requirements in EPA's national rule, but applied its requirements to the sale of automobile refinishing coatings and the owners and operators of automobile refinishing facilities. Indiana's SIP rule also contains additional work practice standards that reduce VOC emissions by specifying acceptable methods of spray gun cleaning, the type of application equipment that can be used (which reduces the amount of overspray) and housekeeping practices (such as storing VOC-containing materials in closed containers) that reduce VOC emissions.

The revised rules submitted by Indiana expand the applicability of the previously approved rules from Clark, Floyd, Lake, Porter and Vanderburgh Counties to all of Indiana.

Analysis of Rule and Its Revisions

The revisions to Indiana's automobile refinishing rule, 326 IAC 8-10, are approvable because they are consistent with the Act and applicable EPA regulations, and should result in additional VOC emission reductions. A description of the rule revisions follows:

326 IAC 8-10-1 Applicability—This section has been revised so that after June 1, 2009, it applies to any person who sells automobile refinishing coatings or refinishes motor vehicles in all Indiana counties.

326 IAC 8-10-2 Definitions—The definitions of “control device,” “control device efficiency” and “control system” have been deleted from this section because those terms are no longer used in this rule. A few other minor editorial and clarifying revisions have also been made.

326 IAC 8-10-3 Requirements—This section expands the applicability of the control requirements to all of Indiana and eliminates requirements that had specifically applied to only Vanderburgh County.

326 IAC 8-10-4 Means to limit VOC emissions—This section specifies the VOC limits that must be met by the owners or operators of a refinishing facility. It has been revised to eliminate the use of add-on control systems as a compliance option. This compliance option is not necessary because VOC content limits are more appropriate for automobile refinishing facilities than add-on control devices.

326 IAC 8-10-5 Work Practice Standards and 326 IAC 8-10-6 Compliance procedures have not been substantively revised.

326 IAC 8-10-7 Test procedures and 326 IAC 8-10-9 Recordkeeping and reporting—These sections have been revised primarily by removing the testing, recordkeeping and reporting requirements applicable to control devices. A new section, 326 IAC 8-10-9(e), has been added which requires the owners or operators of refinishing facilities subject to this rule to report any incidence in which a noncompliant coating was used within thirty days.

IV. Statutory and Executive Order Reviews

Under the Act, the Administrator is required to approve a SIP submission that complies with the provisions of the Act and applicable Federal regulations. 42 U.S.C. 7410(k); 40 CFR 52.02(a). Thus, in reviewing SIP submissions, EPA's role is to approve state choices, provided that they meet the criteria of the Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Intergovernmental relations, Nitrogen dioxide, Ozone, Reporting and recordkeeping requirements, Volatile organic compounds.

Dated: December 30, 2009.
Bharat Mathur,
Acting Regional Administrator, Region 5.

[FR Doc. 2010-619 Filed 1-13-10; 8:45 am]

BILLING CODE 6560-50-P